FEDERAL COMMUNICATIONS COMMISSION

[DA 03-2100]

Bureau Mails Second Audit Letter and Notice of Cancellation to Certain 220-222 MHz Licensees

AGENCY: Federal Communications Commission.

ACTION: Notice.

SUMMARY: In this document the Wireless Telecommunications Bureau (Bureau) announces it will mail its second audit letter and notice of cancellation to licensees that did not respond to the first inquiry. The audit involves certain site-specific licenses operating in three commercial radio services in the 220—222 MHz band. Licensees must respond to the second audit letter and notice of cancellation electronically.

DATES: Responses are due by August 7, 2003.

ADDRESSES: Federal Communications Commission, 445 12th Street, SW., TW-A325, Washington, DC 20554.

FOR FURTHER INFORMATION CONTACT: Denise D. Walter, Commercial Wireless Division, at 202-418-0620.

SUPPLEMENTARY INFORMATION: This is a summary of the Federal Communications Commission's Public Notice, DA 03-2100, released on June 30, 2003. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On July 8, 2003 the Wireless Telecommunications Bureau will mail its second audit letter and notice of cancellation to certain licensees operating in the 220-222 MHz band. The audit, which includes licenses in the QT, QD, and QO radio services, is being performed to determine the operational status of these licenses. The audit was announced on April 9, 2003 and began on May 14, 2003.

2. Each licensee to whom this second audit letter and notice of cancellation is being sent must respond and certify by August 7, 2003 that its authorized stations have not discontinued operations for one year or more.

3. Audit letters are mailed to licensees at their address of record in the Universal Licensing System. If a licensee receives more than one audit letter, they must respond to each letter sent by the Commission in order to account for all of its call signs that are part of the audit. Licensees can use the Audit Search at http://wireless.fcc.gov/licensing/audits/220 to determine if a particular call sign is part of the audit. If the Audit Search shows a letter was mailed, the licensee is required to respond to the audit even though the audit letter may not have been received. For instructions on how to proceed in this instance, licensees should call the Commission at 717-338-2888 or 888-CALLFCC (888-225-5322) and select option 2.

4. The process for responding to the audit is included in the second audit letter and notice of cancellation. A response is mandatory and must be submitted electronically by August 7, 2003. Failure to provide a timely response to the second audit letter and notice of cancellation may result in the Commission presuming that the station has been non-operational for one year or more, and thus the license may be presumed to have automatically cancelled. Failure to provide a timely response may also result in enforcement action, including monetary forfeiture, pursuant to section 503(b)(1)(B) of the Communications Act and 47 CFR 1.80(a)(2).

Federal Communications Commission.
Marlene H. Dortch,
Secretary.

[FR Doc. 03-17437 Filed 7-9-03; 8:45 am]

BILLING CODE 6712-01-P